FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 13, 2015.

A. Federal Reserve Bank of Dallas (Robert L. Triplett III, Senior Vice President) 2200 North Pearl Street, Dallas, Texas 75201-2272:

1. Fred Luecke, Giddings, Texas; Susan Luecke Walther, Lincoln, Texas; Jimmie Luecke and Jimmie Luecke, both of Giddings, Texas, as the general partner of the Jimmie Luecke Children Partnership, Ltd. II, together as the Luecke family group, to retain voting shares of Giddings, Bancshares, Inc., and thereby indirectly retain voting shares of First National Bank of Giddings, both in Giddings, Texas.

Board of Governors of the Federal Reserve System, July 24, 2015.
Margaret McCloskey Shanks,
Deputy Secretary of the Board.

[FR Doc. 2015-18598 Filed 7-28-15; 8:45 am]

BILLING CODE 6210-01-P